DEPARTMENT OF HEALTH AND HUMAN SERVICES

DEPARTMENT OF AGRICULTURE

Announcement of the Availability of the Scientific Report of the 2015 Dietary Guidelines Advisory Committee, Solicitation of Written Comments on the Advisory Report, and Invitation for Oral Testimony at a Public Meeting

AGENCY: Office of the Assistant Secretary for Health, Office of the Secretary, Department of Health and Human Services; and Food, Nutrition and Consumer Services and Research, Education, and Economics, U.S. Department of Agriculture.

ACTION: Notice.

SUMMARY: The Department of Health and Human Services (HHS) and the Department of Agriculture (USDA) (a) announce the availability of the Scientific Report of the 2015 Dietary Guidelines Advisory Committee (Advisory Report); (b) solicit written comments on the Advisory Report; and (c) provide notice of a public meeting to solicit oral comments from the public on the Advisory Report.

DATES: The Advisory Report of the 2015 Dietary Guidelines Advisory Committee (Committee or DGAC) is available for review and public written comment. Written comments will be accepted through midnight E.S.T. on April 8, 2015. The meeting for the public to provide oral testimony to HHS and USDA on the Advisory Report will be held on March 24, 2015, from 8:30 a.m.-1:00 p.m. E.S.T.

ADDRESSES: The Advisory Report is available on the Internet at www.DietaryGuidelines.gov. Those participating in providing public oral testimony to HHS and USDA on the Advisory Report are required to attend the public meeting in-person at the National Institutes of Health (NIH) Clinical Center, Building 10, Masur Auditorium, 10 Center Drive, 9000 Rockville Pike, Bethesda, MD 20892. Others wanting to participate by listening to the oral testimony can do so in-person or via webcast on the Internet.

FOR FURTHER INFORMATION CONTACT: Designated Federal Officer (DFO), 2015 DGAC, Richard D. Olson, M.D., M.P.H.; Office of Disease Prevention and Health Promotion, OASH/HHS; 1101 Wootton Parkway, Suite LL100 Tower Building; Rockville, MD 20852: Telephone: (240) 453-8280; Fax: (240) 453-8281; Alternate DFO, 2015 DGAC, Kellie (O'Connell) Casavale, Ph.D., R.D., Nutrition Advisor; Office of Disease Prevention and Health Promotion, OASH/HHS; 1101 Wootton Parkway, Suite LL100 Tower Building; Rockville, MD 20852: Telephone: (240) 453-8280; Fax: (240) 453-8281; Lead USDA Co-Executive Secretary, Colette I. Rihane, M.S., R.D., Director, Office of Nutrition Guidance and Analysis, Center for Nutrition Policy and Promotion, USDA; 3101 Park Center Drive, Room 1034; Alexandria, VA 22302; Telephone: (703) 305-7600; Fax: (703) 305-3300; and/or USDA Co-Executive Secretary, Shanthy A. Bowman, Ph.D., Nutritionist, Food Surveys Research Group, Beltsville Human Nutrition Research Center, Agricultural Research Service, USDA; 10300 Baltimore Avenue, BARC-West Bldg 005, Room 125; Beltsville, MD 20705-2350; Telephone: (301) 504-0619. The Advisory Report and the agenda for this meeting will be made available on the Internet at www.DietaryGuidelines.gov.

SUPPLEMENTARY INFORMATION: Under Section 301 of Public Law 101-445 (7 U.S.C. 5341, the National Nutrition Monitoring and Related Research Act of 1990, Title III) the Secretaries of Health and Human Services (HHS) and Agriculture (USDA) are directed to issue at least every five years a report titled Dietary Guidelines for Americans. The law instructs that this publication shall contain nutritional and dietary information and guidelines for the general public, shall be based on the preponderance of scientific and medical knowledge current at the time of publication, and shall be promoted by each federal agency in carrying out any federal food, nutrition, or health program. The Dietary Guidelines for Americans was issued voluntarily by HHS and USDA in 1980, 1985, and 1990; the 1995 edition was the first statutorily mandated report, followed by subsequent editions at appropriate intervals. To assist with satisfying the mandate, a discretionary federal advisory committee is established every five years to provide independent, science-based advice and recommendations. The Committee consists of a panel of experts who were selected from the public/private sector. Individuals who were selected to serve on the Committee have current scientific knowledge in the field of human nutrition and chronic disease.

Appointed Committee Members: Fourteen members served on the 2015 Committee. They were appointed by the Secretaries of HHS and USDA in May 2013. Information on the DGAC membership is available at www.DietaryGuidelines.gov. As stipulated in the charter, the Committee terminated because it has completed its mission.

Meeting Agenda: The meeting agenda will include opportunity for the public to give oral testimony to HHS and USDA officials on the Advisory Report.

Meeting Registration: The meeting will be publicly accessible in-person and by webcast on the Internet. Registration is required and is expected to open on March 9, 2015. To register, please go to www.DietaryGuidelines.gov and click on the link for meeting registration. To register by phone, please call National Capitol Contracting, Andrea Popp at (703) 243-9696. Registration must include name, affiliation, and phone number or email address.

Webcast Public Participation: After registering, individuals participating by webcast will receive webcast access information via email. Webcast registrants can observe the oral testimony; however, testimony can only be given in-person.

In-Person Public Participation and Building Access: For in-person participants, the meetings will be held in the National Institutes of Health (NIH) Clinical Center (Building 10), as noted above in the Addresses section. Directions will be posted on www.DietaryGuidelines.gov. For in-person participants, check-in at the registration desk onsite at the meeting is required and will begin at 8:00 a.m. E.S.T.

Oral Testimony: HHS and USDA invite requests from the public to present three minutes of oral testimony to HHS and USDA officials on the Advisory Report at the March 24, 2015 public meeting.

Registration capacity is limited to 70 individuals confirmed to speak and an additional 10 who are not confirmed to speak but are on stand-by (if time remains) to provide oral testimony. Capacity will be filled in the order received. Confirmation by email will include further instructions for participation. Requests to present oral testimony can be made by going to www.DietaryGuidelines.gov and clicking on the link for meeting registration and must include a written outline of the intended testimony not exceeding one page in length. In addition, the public is encouraged to provide written comments (separate from oral testimony) submitted electronically through the public comments database at www.DietaryGuidelines.gov.

Written Public Comments: Written comments on the Advisory Report are encouraged from the public and will be accepted through April 8, 2015. Written public comments can be submitted and/or viewed at www.DietaryGuidelines.gov using the “Submit Comments” and “Read Comments” links, respectively. HHS and USDA requests that commenters provide a brief (250 words or less) summary of the points or issues in the comment text box. If commenters are providing literature or other resources, complete citations or abstracts and electronic links to full articles or reports are preferred instead of attaching these documents to the comment. All comments must be received by midnight (E.S.T.) on April 8, 2015, after which the time period for submitting written comments to the federal government expires. The ability to view public comments will continue to be available. Please allow until April 22, 2015, for comment submissions to be processed and posted for viewing.

Meeting Documents: Documents pertaining to the meeting, including a meeting agenda and webcast recording will be available on www.DietaryGuidelines.gov. Meeting information will continue to be accessible online, at the NIH Library (see the Addresses section), and upon request at the Office of Disease Prevention and Health Promotion, OASH/HHS; 1101 Wootton Parkway, Suite LL100 Tower Building; Rockville, MD 20852: Telephone (240) 453-8280; Fax: (240) 453-8281.

Dated: January 13, 2015.
Don Wright,
Deputy Assistant Secretary for Health, Office of Disease Prevention and Health Promotion, Office of the Assistant Secretary for Health, U.S. Department of Health and Human Services.
Dated: January 13, 2015.
Angela Tagtow,
Executive Director, Center for Nutrition Policy and Promotion, U.S. Department of Agriculture.
Dated: January 15, 2015.
Chavonda Jacobs-Young,
Administrator, Agricultural Research Service, U.S. Department of Agriculture.

[FR Doc. 2015-03552 Filed 2-20-15; 8:45 am]

BILLING CODE 4150-32P